DEPARTMENT OF DEFENSE

Office of the Secretary

[Transmittal Nos. 13-53]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-53 with attached transmittal and policy justification.

Dated: October 17, 2013.
Aaron Siegel,
Alternate OSD Federal Register Liaison Officer, Department of Defense.

BILLING CODE 5001-06-P

BILLING CODE 5001-06-C

Transmittal No. 13-53

Notice of Proposed Issuance of Letter of Offer Pursuant to Section 36(b)(1) of the Arms Export Control Act, as amended

(i) Prospective Purchaser: Kingdom of Saudi Arabia, Ministry of Defense

(ii) Total Estimated Value:

Major Defense Equipment | $ 0 million
Other | $ 90 million
TOTAL | $ 90 million

(iii) Description and Quantity or Quantities of Articles or Services under Consideration for Purchase: Provides support services to include technical assistance and advisory support to the Kingdom of Saudi Arabia Ministry of Defense for three years, through the U.S. Military Training Mission (USMTM) in Riyadh, Saudi Arabia.

(iv) Military Department: U.S. Army (ABS, Amendment 01)

(v) Prior Related Cases, if any:

FMS Case ABR-$26M—12Mar12

FMS Case ABQ-$24M—23Mar11

(vi) Sales Commission, Fee, etc., Paid, Offered, or Agreed to be Paid: None

(vii) Sensitivity of Technology Contained in the Defense Article or Defense Services Proposed to be Sold: None.

(viii) Date Report Delivered to Congress: 11 October 2013

* as defined in Section 47(6) of the Arms Export Control Act.

POLICY JUSTIFICATION

Kingdom of Saudi Arabia—Support Services

The Government of Saudi Arabia has requested a possible sale of support services to its Ministry of Defense for three years. The U.S. Military Training Mission (USMTM) in Riyadh, Saudi Arabia is the Security Cooperation Organization (SCO) responsible for identifying, planning, and executing U.S. security cooperation training and advisory support for the Kingdom of Saudi Arabia's Ministry of Defense. The estimated cost is $90 million.

This proposed sale will contribute to the foreign policy and national security of the United States by helping to improve the security of a friendly country that has been and continues to be an important force for political stability in the Middle East.

This proposed sale will provide the continuation of USMTM services to Saudi Arabia. The proposed sale conveys the U.S.'s continued commitment to Saudi Arabia's security and strengthens our strategic partnership.

The proposed sale will not alter the basic military balance in the region.

There is no prime contractor associated with this proposed sale. There are no known offset agreements in connection with this potential sale.

Implementation of this proposed sale will not require the permanent assignment of any U.S. Government or contractor representatives to Saudi Arabia. Support teams will travel to the country on a temporary basis.

There will be no adverse impact on U.S. defense readiness as a result of this proposed sale.

[FR Doc. 2013-24624 Filed 10-21-13; 8:45 am]

BILLING CODE 5001-06-P